DEPARTMENT OF ENERGY

Federal Energy Regulatory Commission

[Project No. 14859-001]

Big Chino Valley Pumped Storage LLC; Notice of Intent To File License Application, Filing of Pre-Application Document, Approving Use of the Traditional Licensing Process

a. Type of Filing: Notice of Intent to File License Application and Request to Use the Traditional Licensing Process.

b. Project No.: 14859-001.

c. Date Filed: March 30, 2018.

d. Submitted By: Big Chino Valley Pumped Storage LLC.

e. Name of Project: Big Chino Valley Pumped Storage Project.

f. Location: 37 miles northwest of Chino Valley in Yavapai, Coconino, and Mohave Counties, Arizona. One of the three potential transmission line routes could occupy 91.49 acres of the Prescott National Forest.

g. Filed Pursuant to: 18 CFR 5.3 of the Commission's regulations.

h. Potential Applicant Contact: Brian Studenka, ITC Holdings Corp., 27175 Energy Way, Novi, MI 48377; email bstudenka@itctransco.com; (248) 946-3247.

i. FERC Contact: Kim Nguyen; email kim.nguyen@ferc.gov; (202) 502-6105.

j. Big Chino Valley Pumped Storage LLC filed its request to use the Traditional Licensing Process on March 30, 2018. Big Chino Valley Pumped Storage LLC provided public notice of its request on April 10, 2018. In a letter dated May 22, 2018, the Director of the Division of Hydropower Licensing approved Big Chino Valley Pumped Storage LLC's request to use the Traditional Licensing Process.

k. With this notice, we are initiating informal consultation with the U.S. Fish and Wildlife Service under section 7 of the Endangered Species Act and the joint agency regulations thereunder at 50 CFR part 402. We are also initiating consultation with the Arizona State Historic Preservation Officer, as required by section 106, National Historic Preservation Act, and the implementing regulations of the Advisory Council on Historic Preservation at 36 CFR 800.2.

l. With this notice, we are designating Big Chino Valley Pumped Storage LLC as the Commission's non-federal representative for carrying out informal consultation pursuant to section 7 of the Endangered Species Act; and consultation pursuant to section 106 of the National Historic Preservation Act.

m. Big Chino Valley Pumped Storage LLC filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: May 23, 2018.
Kimberly D. Bose,
Secretary.

[FR Doc. 2018-11526 Filed 5-29-18; 8:45 am]

BILLING CODE 6717-01-P